Title 3—

The President

Proclamation 8305 of October 10, 2008

Columbus Day, 2008

By the President of the United States of America

A Proclamation

Christopher Columbus' bold voyage across the Atlantic changed the world forever. On Columbus Day, we remember this Italian explorer's courage in traveling to the unknown and celebrate his landmark achievements and lasting legacy.

History holds remarkable examples of heroism and adventure, and the journey of the navigator from Genoa in 1492 is one of history's great stories of daring and bravery. Columbus' expedition became an epic of discovery and opened up the New World for future generations. His journey will forever stand as a testament to his intrepid spirit and persistence. Today, his legacy of discovery and determination is an example for innovators and dreamers as they pursue broader understanding and use their talents to benefit humanity.

Columbus Day is also an opportunity to reaffirm the close ties between the United States and Italy. Our two countries will continue to work together to advance liberty, peace, and prosperity around the globe. Our Nation recognizes the many inspiring contributions made by Americans of Italian descent. We also honor the dedication and sacrifice of Italian Americans who are serving in our country's Armed Forces. In commemoration of Columbus' journey, the Congress has requested (36 U.S.C. 107) that the President proclaim the second Monday of October of each year as “Columbus Day.”

NOW, THEREFORE, I, GEORGE W. BUSH, President of the United States of America, do hereby proclaim October 13, 2008, as Columbus Day. I call upon the people of the United States to observe this day with appropriate ceremonies and activities. I also direct that the flag of the United States be displayed on all public buildings on the appointed day in honor of Christopher Columbus.

IN WITNESS WHEREOF, I have hereunto set my hand this tenth day of October, in the year of our Lord two thousand eight, and of the Independence of the United States of America the two hundred and thirty-third.

[FR Doc. E8-24855

Filed 10-15-08; 1:15 pm]

Billing code 3195-W9-P